DEPARTMENT OF HOUSING AND URBAN DEVELOPMENT

[Docket No. FR-4630-FA-09]

Announcement of Funding Award—FY 2001; Lead Hazard Control 2001

AGENCY: Office of the Secretary—Office of Healthy Homes and Lead Hazard Control, HUD.

ACTION: Announcement of funding award.

SUMMARY: In accordance with section 102(a)(4)(C) of the Department of Housing and Urban Development Reform Act of 1989, this announcement notifies the public of funding decisions made by the Department as a result of the Lead Hazard Control Notice of Funding Availability (NOFA). This announcement contains the names and addresses of the awardees and the amount of the awards.

FOR FURTHER INFORMATION CONTACT: Staci Gilliam, Department of Housing and Urban Development, 451, Seventh Street, SW, Washington, DC, 20410, telephone (202) 755-1785, ext. 110. Hearing- or speech-impaired individuals may access this number by calling the Federal Information Relay Service TTY at 1-800-877-8339.

SUPPLEMENTARY INFORMATION: The Lead Hazard Control NOFA was issued pursuant to section 1011 of the Residential Lead-Based Paint Hazard Reduction Act of 1992 (Title X of the Housing and Community Development Act of 1992).

On February 26, 2001 (66 FR 11855), HUD published a NOFA announcing the availability of $60,000,000.00 for Lead Hazard Control Control grantees, that would be used to assist States, Indian Tribes and local governments in undertaking comprehensive programs to identify and control lead-based paint hazards in eligible privately-owned housing for rental or owner-occupants in partnership with community-based organizations.

The Catalog of Federal Domestic Assistance number for this program is 14.900.

In accordance with section 102(a)(4)(C) of the Department of Housing and Urban Development Reform Act of 1989 (103 Stat. 1987, 42 U.S.C. 3545), the Department is publishing the names, addresses, and amounts of the awards as follows:

Awardee | Address | Amount of grant
City of Birmingham | Community Development Department, 710 North 20th Street—Room 1000, Birmingham, AL 35203 | $1,155,840.00
City of Los Angeles | Housing Department, 111 North Hope Street—Room 709, Los Angeles, CA 90012 | 3,000,000.00
City of Hartford | Department of Housing, 550 Main Street, Hartford, CT 06103 | 2,944,932.00
City of New Britain | 27 West Main Street, New Britain, CT 06051 | 2,392,783.00
City of New Haven | Department of Health, 54 Meadow Street, New Haven, CT 06519 | 2,750,000.00
City of Stamford | Community Development Office, 888 Washington Boulevard, Stamford, CT 06904 | 2,160,089.00
City of Kankakee | 385 East Oak, Kankakee, IL 60901 | 2,999,981.00
City of Boston | Department of Neighborhood Development, Lead Safe Boston, 38 Winthrop Street, Hyde Park, MA 02136 | 3,000,000.00
City of Lawrence | Office of Planning & Development, 225 Essex Street—3rd Floor, Lawrence, MA 01840 | 3,000,000.00
City of Somerville | Office of Housing & Community Development, 50 Evergreen Avenue, Somerville, MA 02145 | 1,488,638.00
State of Michigan | Department of Community Health, Division of Community Services, Lead Hazard Remediation Program, 3423 North Martin Luther King Blvd., Lansing, MI 48909 | 3,000,000.00
City of Minneapolis | Environmental Health Services, 250 South 4th Street—Room 401, Minneapolis, MN 55415 | 3,000,000.00
Saint Paul-Ramsey County | Department of Public Health, 555 Cedar Street, Saint Paul, MN 55101 | 1,600,000.00
City of Kansas City | Health Department, 2400 Troost Avenue—Suite 4000, Kansas City, MO 64108 | 1,000,000.00
St. Louis County | Office of Community Development, 121 South Meramec—Suite 444, Clayton, MO 63105 | 1,000,000.00
Butte-Silver Bow | Health Department, Environmental Health Division, 25 West Front Street, Butte, MT 59701 | 545,483.00
City of Newark | Department of Health & Human Services, 110 William Street, Newark, NJ 07102 | 3,000,000.00
City of New York | Department of Housing, Preservation & Development, 100 Gold Street—Room 9-08, New York, NY 10038 | 3,000,000.00
City of Utica | Department of Urban & Economic Development, 1 Kennedy Plaza, Utica, NY 13502 | 1,155,841.00
City of Akron | Health Department, 177 South Broadway Street, Akron, OH 44308 | 3,000,000.00
City of Cleveland | Department of Public Health, 1925 St. Clair Avenue, Cleveland, OH 44114 | 2,999,562.00
City of Pawtucket | 137 Roosevelt Avenue, Pawtucket, RI 02860 | 2,861,968.00
City of Charleston | Department of Housing & Community Development, 75 Calhoun Street, Charleston, SC 29401 | 2,999,998.00
City of Memphis | Division of Housing & Community Development, 701 North Main Street—Suite 150, Memphis, TN 38107 | 2,998,885.00
City of Milwaukee | Health Department, Childhood Lead Poisoning Prevention Program, Johnston Community Health Center, 1230 West Grant Street, Milwaukee, WI 53215-2798 | 3,000,000.00

Dated: September 16, 2002.
David E. Jacobs,
Director, Office of Healthy Homes & Lead Hazard Control.

[FR Doc. 02-26764 Filed 10-21-02; 8:45 am]

BILLING CODE 4210-70-M